DEPARTMENT OF HOUSING AND URBAN DEVELOPMENT

[Docket No. FR-5681-N-49]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Ritta, Office of Enterprise Support Programs, Program Support Center, HHS, room 12-07, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Ann Marie Oliva at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Air Force: Ms. Connie Lotfi, Air Force Real Property Agency, 2261 Hughes Avenue, Suite 156, Lackland AFB, TX 78236-9852, (210)-395-9512; (This is not a toll-free number).

Dated: December 12, 2013.
Mark Johnston,
Deputy Assistant Secretary for Special Needs.

TITLE V, FEDERAL SURPLUS PROPERTY PROGRAM FEDERAL REGISTER REPORT FOR 12/20/2013

Suitable/Available Properties

Building

Florida

2 Buildings

Cocoa Beach Tracking Annex

Cocoa Beach FL 32931

Landholding Agency: Air Force

Property Number: 18201340040

Status: Unutilized

Directions: 00001 (59 sq. ft.); 00002 (1,030 sq. ft.)

Comments: 56+ yrs.-old; 24+ months vacant; launch support; fair conditions; contact Air Force for more info.

Nevada

Bldg. 72

152 Airlift Wing

Reno NV 39502

Landholding Agency: Air Force

Property Number: 18201340014

Status: Excess

Comments: off-site removal only; 1,200 sq. ft.; storage; 36+ months vacant; need repairs; secured area; contact Air Force for more info.

Utah

7 Buildings

Hill AFB

Layton UT 84056

Landholding Agency: Air Force

Property Number: 18201340026

Status: Excess

Directions: 01245 (15,103 sq. ft.); 00016 (560 sq.); 1601 (2,785 sq. ft.); 1602 (127 sq. ft.); 1603 (1,000 sq. ft.); 1604 (127 sq. ft.); 1605 (120 sq. ft.)

Comments: off-site removal only; 70+ yrs.-old; repairs needed; secured area; clearance for removal granted by installation commander; contact Air Force for more info.

13 Buildings

Hill AFB

Layton UT 84056

Landholding Agency: Air Force

Property Number: 18201340027

Status: Excess

Directions: 1607 (16,050 sq. ft.); 1608 (130 sq. ft.); 1609 (1,000 sq. ft.); 1901 (5,160 sq. ft.); 1902 (8,902 sq. ft.); 1946 (2,436 sq. ft.); 2214 (14,086 sq. ft.); 2232 (1,148 sq. ft.); 2238 (1,148 sq. ft.); 2241 (3,297 sq. ft.); 517 (26,602 sq. ft.) 518 (26,602 sq. ft.)

Comments: off-site removal only; 70+ yrs.-old; repairs needed; secured area; clearance for removal granted by installation commander; contact Air Force for more info.

01244

Hill AFB

Layton UT 84056

Landholding Agency: Air Force

Property Number: 18201340038

Status: Excess

Comments: off-site removal only; 14,279 sq. ft.; clearance for removal granted by installation commander; contact Air Force for more info.

Virginia

5 Buildings

Fort Eustis

Ft. Eustis VA 23604

Landholding Agency: Air Force

Property Number: 18201340029

Status: Unutilized

Directions: 2739 (2,965 sq. ft.); 2740 (395 sq.); 2746 (9,783 sq. ft.); 2796 (8,453 sq. ft.); 2798 (8,736 sq. ft.)

Comments: off-site removal only; no future agency need; age: 1967 (except bldg. 2740; est. 2008); deteriorated; contact Air Force for more info. on a specific property/accessibility reqs.

Land

Alaska

37,515 SF of Land

JBER-Elmendorf

JBER AK 99506

Landholding Agency: Air Force

Property Number: 18201340003

Status: Underutilized

Comments: restricted area; transferee must obtain a government sponsor to access property; contact Air Force for more info.

Florida

99142 Land

Cocoa Beach Tracking Annex

Cocoa Beach FL 32931

Landholding Agency: Air Force

Property Number: 18201340041

Status: Unutilized

Comments: .31 acre; launch support; subject to storm tidal surges that may cause flooding; contact Air Force for more info.

New York

Parcel 7

AFRL/RI Rome Lab

Rome NY 13441

Landholding Agency: Air Force

Property Number: 18201340036

Status: Unutilized

Comments: 1.722 acres; vacant; partially paved w/chain linked fence surrounding part of property; contact Air force for more info.

Unsuitable Properties

Building

Alaska

Bldg. 2206

Eielson; 2345 Wabash Ave.

Eielson AK 99702

Landholding Agency: Air Force

Property Number: 18201340002

Status: Unutilized

Comments: public access denied and no alternative method to gain access w/out compromising national security

Reasons: Secured Area

Arizona

6 Buildings

Davis Monthan AFB

Tucson AZ 85707

Landholding Agency: Air Force

Property Number: 18201340028

Status: Underutilized

Directions: 127, 7410, 7411, 7413, 7416, 7412

Comments: located on a gated entry controlled military base; public access denied and no alternative method to gain access w/out compromising national security

Reasons: Secured Area

Colorado

MFH-Bldg. 47000

A & B E. Ponderosa Dr.

UASF CO 80840

Landholding Agency: Air Force

Property Number: 18201340033

Status: Unutilized

Comments: public access denied & no alternative method to gain access w/out compromising national security

Reasons: Secured Area

Florida

2 Buildings

125th Fighter Wing

Jacksonville FL 32218

Landholding Agency: Air Force

Property Number: 18201340012

Status: Unutilized

Directions: 1047, 1048

Comments: public access denied & no alternative method to gain access w/out compromising national security

Reasons: Secured Area

Bldg. 9632

Eglin AFB

Eglin FL 32542

Landholding Agency: Air Force

Property Number: 18201340020

Status: Unutilized

Comments: public access denied & no alternative method to gain access w/out compromising national security

Reasons: Secured Area

Illinois

Bldg. 155

Scott AFB

Scott IL 62225

Landholding Agency: Air Force

Property Number: 18201340022

Status: Unutilized

Comments: public access denied & no alternative method to gain access w/out compromising national security

Reasons: Secured Area

Louisiana

Bldg. 7244

4411 Kenny Ave., Barksdale AFB

Barksdale LA 71110

Landholding Agency: Air Force

Property Number: 18201340007

Status: Underutilized

Comments: public access denied & no alternative method to gain access w/out compromising national security

Reasons: Secured Area

5 Buildings

773 Kenny Ave., Barksdale AFB

Barksdale LA 71110

Landholding Agency: Air Force

Property Number: 18201340008

Status: Unutilized

Directions: 4442, 4455, 4456, 5485, 7243

Comments: public access denied & no alternative method to gain access w/out compromising national security

Reasons: Secured Area

Maryland

2 Buildings

Maryland Air National Guard

Baltimore MD 21220

Landholding Agency: Air Force

Property Number: 18201340013

Status: Unutilized

Directions: 3013, 5066

Comments: public access denied & no alternative method to gain access w/out compromising national security

Reasons: Secured Area

9 Buildings

Joint Base Andrews

Joint base Andrews MD 20762

Landholding Agency: Air Force

Property Number: 18201340034

Status: Unutilized

Directions: 4942, 4952, 4962, 4963, 4964, 4971, 4972, 4973, 4982

Comments: no entry to military installation w/out DoD ID; public access denied & no alternative method to gain access w/out compromising national security

Reasons: Secured Area

Nebraska

Bldg. 73

510 Custer Dr.

Offutt AFB NE 68113

Landholding Agency: Air Force

Property Number: 18201340009

Status: Excess

Comments: public access denied & no alternative method to gain access w/out compromising national security

Reasons: Secured Area

New Jersey

4 Buildings

JBMDL

Ft. Dix NJ 08640

Landholding Agency: Air Force

Property Number: 18201340023

Status: Unutilized

Directions: 3108, 3165, 5350, 5970

Comments: public access denied & no alternative method to gain access w/out compromising national security

Reasons: Secured Area

2 Buildings

JBMDL

Ft. Dix NJ 08640

Landholding Agency: Air Force

Property Number: 18201340024

Status: Underutilized

Directions: 9523, 2415

Comments: public access denied & no alternative method to gain access w/out compromising national security

Reasons: Secured Area

Bldg. 3326

JBMDL

JBMDL NJ 08641

Landholding Agency: Air Force

Property Number: 18201340025

Status: Unutilized

Comments: DoD personnel only; public access denied & no alternative method to gain access w/out compromising national security

Reasons: Secured Area

New Mexico

Building 848

Holloman AFB

Holloman NM 88330

Landholding Agency: Air Force

Property Number: 18201340032

Status: Unutilized

Directions: RPUID: 44558

Comments: public access denied & no alternative method to gain access w/out compromising national security

Reasons: Secured Area

New York

Bldg. 940

IAP-ARS (ANG)

Niagara Falls NY 14304

Landholding Agency: Air Force

Property Number: 18201340016

Status: Unutilized

Comments: w/in ANG cantonment area; public access denied & no alternative method to gain access w/out compromising national security

Reasons: Secured Area

Bldg. 11

1 Air National Guard Rd.

Schenectady Airport NY 12302

Landholding Agency: Air Force

Property Number: 18201340017

Status: Excess

Comments: public access denied & no alternative method to gain access w/out compromising national security

Reasons: Secured Area

Pennsylvania

Pa ANG Bldg. 1-66

Fort Indiantown Gap

AGS, LKLW

Annville PA 17003

Landholding Agency: Air Force

Property Number: 18201340018

Status: Excess

Comments: public access denied & no alternative method to gain access w/out compromising national security

Reasons: Secured Area

South Carolina

DKGV 822

JB Charleston

Goose Creek SC 29445

Landholding Agency: Air Force

Property Number: 18201340010

Status: Unutilized

Comments: public access denied & no alternative method to gain access w/out compromising national security

Reasons: Secured Area

DKGV 43

JB Charleston

Goose Creek SC 29445

Landholding Agency: Air Force

Property Number: 18201340011

Status: Underutilized

Comments: public access denied & no alternative method to gain access w/out compromising national security

Reasons: Secured Area

Tennessee

Bldg. 425, Viewing Stand

PSXE (McGhee Tyson Airport)

Louisville TN 37777

Landholding Agency: Air Force

Property Number: 18201340019

Status: Underutilized

Comments: public access denied & no alternative method to gain access w/out compromising national security

Reasons: Secured Area

Texas

Building 1400

Sheppard AFB

Sheppard TX

Landholding Agency: Air Force

Property Number: 18201340030

Status: Unutilized

Comments: public access denied & no alternative method to gain access w/out compromising national security

Reasons: Secured Area

3 Buildings

Sheppard AFB

Sheppard TX

Landholding Agency: Air Force

Property Number: 18201340031

Status: Underutilized

Directions: 1700, 2208, 2220

Comments: public access denied & no alternative method to gain access w/out compromising national security

Reasons: Secured Area

Washington

5 Buildings

Fairchild AFB

Fairchild WA 99011

Landholding Agency: Air Force

Property Number: 18201340037

Status: Unutilized

Directions: 1316, 1342, 1352, 2285, 2001

Comments: public access denied & no alternative method to gain access w/out compromising national security

Reasons: Secured Area

2 Buildings

Fairchild AFB

Fairchild WA 99011

Landholding Agency: Air Force

Property Number: 18201340039

Status: Unutilized

Directions: 1230, 1238

Comments: public access denied & no alternative method to gain access w/out compromising national security

Reasons: Secured Area

[FR Doc. 2013-30082 Filed 12-19-13; 8:45 am]

BILLING CODE 4210-67-P